DEPARTMENT OF TRANSPORTATION

Federal Highway Administration

MAP-21 Comprehensive Truck Size and Weight Limits Study Materials

AGENCY: Federal Highway Administration (FHWA), DOT.

ACTION: Notice of extension of deadline and comment period.

SUMMARY: The FHWA is extending the deadline and comment period for materials related to the Moving Ahead for Progress in the 21st Century Act (MAP-21) Comprehensive Truck Size and Weight Limits Study, which were referenced in a notice published on November 29, 2013, at 78 FR 71707. The original meeting notice asked for comments by January 3, 2014. The extension is based on input received from DOT stakeholders that the January 3, 2014 closing date does not provide sufficient time for submission of comments to the Department. The FHWA agrees that the deadline and the comment period should be extended. Therefore, the closing date for submission of comments on the materials is extended to January 17, 2014. Late-filed comments received after this date will be considered to the fullest extent practicable until January 31, 2014. This will provide others interested in commenting additional time to submit comments while maintaining the schedule required to deliver this study to Congress within the required timeframe.

DATES: Comments must be received on or before January 17, 2014 for full consideration. Late-filed comments received after this date will be considered to the fullest extent practicable, until January 31, 2014.

ADDRESSES: Comments should be sent to:

Email: CTSWStudy@dot.gov.

Mail: Federal Highway Administration, Office of Freight Management and Operations, 1200 New Jersey Ave. SE., E84-471, Washington, DC 20590.

FOR FURTHER INFORMATION CONTACT: For questions about this program, contact Thomas Kearney, FHWA Office of Freight Management and Operations, (518) 431-8890, or by email at Tom.Kearney@dot.gov. For legal questions, please contact Michael Harkins, FHWA Office of the Chief Counsel, (202) 366-4928, or by email at Michael.Harkins@dot.gov. Business hours for the FHWA are from 8:00 a.m. to 4:30 p.m., e.t., Monday through Friday, except Federal holidays.

SUPPLEMENTARY INFORMATION:

Background

On November 29, 2013, at 78 FR 71707, the FHWA published in the Federal Register a notice to announce two upcoming public meetings on the MAP-21 Comprehensive Truck Size and Weight Limits Study and to announce the comment period for certain material related to the study. These materials included draft Desk Scans, project plans, selected truck configurations, and an updated project schedule. The materials have been posted at: http://www.ops.fhwa.dot.gov/freight/sw/map21tswstudy/index.htm.

The original comment period for the materials referenced in the notice closes on January 3, 2014. However, DOT stakeholders have indicated that this closing date does not provide sufficient time for submission of comments to the Department. To allow time for interested parties to submit comments, while maintaining the schedule required to deliver this Study to Congress within the required timeframe, the closing date is changed from January 3, 2014, to January 17, 2014. In addition late-filed comments will be considered to the fullest extent practicable, until January 31, 2014.

Authority: Section 32801 of Pub. L. 112-141.

Dated: December 13, 2013.
Jeffrey Lindley,
FHWA Associate Administrator for Operations.

[FR Doc. 2013-30193 Filed 12-18-13; 8:45 am]

BILLING CODE 4910-22-P